DEPARTMENT OF COMMERCE

International Trade Administration

[A-549-813]

Canned Pineapple Fruit From Thailand: Notice of Partial Rescission of Antidumping Duty Administrative Review

AGENCY: Import Administration, International Trade Administration, Department of Commerce (the Department) conducting an administrative review of the antidumping duty order on canned pineapple fruit (CPF) from Thailand for the period July 1, 2002, through June 30, 2003. We are now rescinding this review with respect to four companies for which the requests for an administrative review have been withdrawn.

EFFECTIVE DATE: October 21, 2003.

FOR FURTHER INFORMATION CONTACT: FOR FURTHER INFORMATION CONTACT: Marin Weaver or Charles Riggle,at (202) 482-2336 or (202) 482-0650, respectively; AD/CVD Enforcement, Office 5, Group II, Import Administration, International Trade Administration, U.S. Department of Commerce, 14th Street & Constitution Avenue, NW, Washington, DC 20230.

SUPPLEMENTARY INFORMATION:

Background

On July 2, 2003, the Department published a notice of opportunity to request the eighth administrative review of this order. See Antidumping or Countervailing Duty Order, Finding, or Suspended Investigation; Opportunity to Request Administrative Review, 68 FR 39511 (July 2, 2003). On July 30, 2003, in accordance with 19 CFR 351.213(b), Maui Pineapple Company and the International Longshoremen's and Warehousemen's Union (the petitioners) requested a review of eight producers/exporters of canned pineapple fruit. Also, between the dates of July 28, 2003, and July 31, 2003, four Thai producers requested a review on their own behalf, three of which also requested revocation. Taking into consideration the overlap in the aforementioned requests, the total number of companies currently under review is eight.

On August 22, 2003, the Department published a notice of initiation of this antidumping duty administrative review, covering the period July 1, 2002, through June 30, 2003, see Initiation of Antidumping and Countervailing Duty Administrative Reviews and Request for Revocation in Part, 68 FR 50750. The initiation covered eight companies. On August 27, 2003, the petitioner withdrew its review request for four companies. None of these four companies had requested a review on its own behalf.

Partial Rescission of Antidumping Duty Administrative Review

Pursuant to 19 CFR 351.213 (d)(1), the Department will rescind an administrative review, in whole or in part, if a party that requested a review withdraws the request within 90 days of the date of publication of the notice of initiation. Petitioners withdrew their requests for review within the 90 day time limit. Accordingly, the four companies for which the review will be rescinded are as follows: Thai Pineapple Canning Industry Corporation, The Prachuab Fruit Canning Company, Siam Fruit Canning (1988) Co., Ltd., and Malee Sampran Public Company Ltd.

Pursuant to Section 315.213(d)(1) of the Department's regulations, we are rescinding the administrative review with respect to each of the above-listed companies. The Department will issue appropriate assessment instructions to the U.S. Bureau of Customs and Border Protection within 15 days of publication of this notice.This notice is issued and published in accordance with section 751 of the Tariff Act of 1930, as amended, and 19 CFR 351.213(d)(4).

Dated: October 15, 2003.
James J. Jochum,
Assistant Secretary for Import Administration.

[FR Doc. 03-26532 Filed 10-20-03; 8:45 am]

BILLING CODE 3510-DS-S